DEPARTMENT OF COMMERCE

Internatioinal Trade Administration

[A-580-816]

Certain Corrosion-Resistant Carbon Steel Flat Products from the Republic of Korea: Notice of Intent to Rescind Antidumping Duty Administrative Review, In Part

AGENCY: Import Administration, International Trade Administration, Department of Commerce.

SUMMARY: On September 30, 2008, we published the notice of initiation of this antidumping duty administrative review with respect to Dongbu Steel Co., Ltd., Dongkuk Industries Co., Ltd. (Dongkuk), Haewon MSC Co., Ltd., Hyundai HYSCO, LG Chem, Ltd., Pohang Iron and Steel Co., Ltd/Pohang Coated Steel Co., Ltd., and Union Steel Manufacturing Co., Ltd, for the period August 1, 2007, through July 31, 2008. See Initiation of Antidumping and Countervailing Duty Administrative Reviews and Request for Revocation in Part, 73 FR 56795 (September 30, 2008) (Notice of Initiation). Dongkuk submitted a letter to the Department that it had no shipments of subject merchandise to the U.S. during the period of review (POR). See Letter from Dongkuk to the Secretary of Commerce dated October 20, 2008. The Department corroborated the claim of no shipments by Dongkuk. See memo from Christopher Hargett, International Trade Compliance Analyst, Office 3, through James Terpstra, Program Manager, Office 3, to Melissa Skinner, Office Director, Office 3, Import Administration, dated March 27, 2009 (No Shipment Analysis). We have preliminarily determined that the review of Dongkuk should be rescinded. This review will remain in effect for all other companies initiated upon.

EFFECTIVE DATE: April 14, 2009.

FOR FURTHER INFORMATION CONTACT: Christopher Hargett, AD/CVD Operations, Office 3, Import Administration, International Trade Administration, U.S. Department of Commerce, 14th Street and Constitution Avenue, NW, Washington, DC 20230; telephone: (202) 482-4161.

SUPPLEMENTARY INFORMATION:

Background

On September 30, 2008, we published the Notice of Initiation of this antidumping duty administrative review with respect to Dongkuk. On October 20, 2008, Dongkuk submitted a letter certifying that it had so sales of subject merchandise to the United States during the POR. The Department used entry data placed on the record for selection of respondents for individual review for the instant review to corroborate Dongkuk's claim. See memo from Joy Zhang, International Trade Compliance Analyst, through James Terpstra Program Manager, Office 3 AD/CVD Operations, and Melissa Skinner, Office Director, Office 3, AD/CVD Operations, to the File dated October 2, 2008 (CBP Data). On December 9, 2008, the Department requested the U.S. entry documents from U.S. Customs and Border Protection for clarification of several entries. See memo from Melissa Skinner, Office Director, Office Director, Office 3, AD/CVD Operations, to David M. Genovese, Director, AD/CVD/Revenue Policy & Programs, Office of International Trade, U.S. Customs and Border Protection, dated December 9, 2008 (Entry Documentation Request). On January 26, 2009, the Department received the requested entry documentation. See memo from Tom Futtner, Customs Unit, to Melissa Skinner, dated January 2, 2009 (Entry Documentation). On March 27, 2009, the Department determined that Dongkuk's claim of no shipments was corroborated using the entry documentation. See No Shipment Analysis.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of non-rectangular cross-section where such cross-section is achieved subsequent to the rolling process (i.e., products which have been “worked after rolling”) - for example, products which have been beveled or rounded at the edges. Excluded from this order are flat-rolled steel products either plated or coated with tin, lead, chromium, chromium oxides, both tin and lead (terne plate), or both chromium and chromium oxides (tin-free steel), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio.

The above HTSUS item numbers are provided for convenience and customs purposes. The written descriptions remain dispositive.

Intent to Rescind the 2007-2008 Administrative Review, in Part

Dongkuk submitted a letter on October 20, 2008, certifying that it did not have sales of subject merchandise to the United States during the POR. The petitioners, United States Steel Corporation, Nucor Corporation, and Mittal Steel USA ISG, Inc. did not comment on Dongkuk's no-shipment claim.

We conducted an internal customs data query on October 2, 2008, as part of the selection of respondents for individual review. See CBP Data. The data query showed several questionable entries, of which the Department requested entry documents. See Entry Documentation Request. The documentation showed that the questionable entries from the CBP data were not produced by Dongkuk. See Entry Documentation.

Based on our analysis of the shipment data, Dongkuk is a non-shipper for this review. See No Shipment Analysis. Therefore, in accordance with 19 CFR 351.213(d)(3), and consistent with our practice, we preliminarily determine to rescind this review. See, e.g., Stainless Steel Bar from India; Preliminary Results of Antidumping Duty Administrative Review and New Shipper Review, and Partial Rescission of Administrative Review, 65 FR 12209 (March 8, 2000); Persulfates From the People's Republic of China; Preliminary Results of Antidumping Duty Administrative Review and Partial Rescission of Administrative Review, 65 FR 18963 (April 10, 2000).

Public Comment

An interested party may request a hearing within 30 days of publication of this preliminary notice. See 19 CFR 351.310(c). Any hearing, if requested, will be held 44 days after the date of publication of this preliminary notice, or the first working day thereafter. Interested parties may submit case briefs no later than 30 days after the date of publication of this preliminary notice. See 19 CFR 351.309(c)(ii). Rebuttal briefs, limited to issues raised in such briefs, may be filed no later than five days after the time limit for filing the case brief 19 CFR 351.309(d). Parties who submit arguments are requested to submit with the argument (1) a statement of the issue, (2) a brief summary of the argument, and (3) a table of authorities. Further, parties submitting written comments should provide the Department with an additional copy of the public version of any such comments on diskette. The Department will issue the final notice, which will include the results of its analysis of issues raised in any such comments, or at a hearing, if requested, within 120 days of publication of this preliminary notice.

This notice is issued and published in accordance with sections 751(a)(1) and 777(i)(1) of the Act and 19 CFR 351.213(d)(4).

Dated: April 8, 2009.
John M. Andersen,
Acting Deputy Assistant Secretary for Antidumping and Countervailing Duty Operations.

[FR Doc. E9-8497 Filed 4-13-09; 8:45 am]

BILLING CODE 3510-DS-S